DEPARTMENT OF HEALTH AND HUMAN SERVICES

Centers for Disease Control and Prevention

[30Day-14-14QJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Evaluation of Hospital Preparedness in a Mass Casualty Event—New—National Center for Injury Prevention and Control (NCIPC), Centers for Disease Control and Prevention (CDC).

Background and Brief Description

Hospital preparedness for responding to public health emergencies including mass casualty incidents and epidemics have become a major national challenge. Following the World Trade Center attack of September 11, Hurricane Katrina of 2005, and the 2011 Alabama tornadoes, there is continued and heightened interest of using surveys to assess hospital readiness for various disasters and mass casualty incidents. Current patterns in terrorist activity increase the potential for civilian casualties from explosions. Explosions, particularly in confined spaces, can inflict severe multisystem injuries on numerous patients and produce unique challenges to health care providers and the systems that support them. The U.S. healthcare system and its civilian healthcare providers have minimal experience in treating patients with explosion-related injuries and deficiencies in response capability could result in increased morbidity and mortality and increased stress and fear in the community. Additionally, the surge of patients after an explosion typically occurs within minutes of the event and can quickly overwhelm nearby hospital resources. This potential for many casualties and an immediate surge of patients may stress and limit the ability of emergency management service systems, hospitals, and other health care facilities to care for critically injured victims. As a result, there remains a gap in our preparedness efforts.

CDC is requesting OMB approval for one year for this project. This project will address this gap in readiness and preparedness.

The purpose of this project will be to (1) develop minimum standards into the assessment tool to enable a review or an evaluation of hospital readiness and (2) develop strategies for dissemination and implementation of the interview tool.

A pilot of the questionnaire, sent to four respondents, has been completed and necessary adjustments to the overall questionnaire have been made during March of 2014.

A national sample of 400 randomly selected hospitals will be selected for participation. The Chief Executive Officers (CEOs) from sampled hospitals will be mailed an introductory letter, contacted by telephone a few days later and asked if the hospital's emergency preparedness coordinator/manager can complete the survey. The emergency preparedness coordinator/manager will complete the main survey online using the survey Web site with a goal of 320 completed surveys. CDC estimates the total time required to complete the survey as 2 hours, including reading the instructions. The survey covers hospital preparedness efforts across departments, number of staff, participation in training and exercises, agreements with other responders, and hospital characteristics.

After data are gathered from the survey, responses will be compiled, analyzed and summarized. The results will be used to develop an implementation manual, training materials and dissemination plan for dissemination. A final study report will also be created.

There are no costs to the respondents other than their time. The total estimated annual burden hours are 740.

Estimated Annualized Burden Hours
Type of respondents | Form name | Number of respondents | Number of responses per respondent | Average burden per response (in hrs)
CEO | Screen | 400 | 1 | 15/60
Emergency Preparedness Coordinator/Manager | Survey | 320 | 1 | 2

Leroy A. Richardson,
Chief, Information Collection Review Office, Office of Scientific Integrity, Office of the Associate Director for Science, Office of the Director, Centers for Disease Control and Prevention.

[FR Doc. 2014-23318 Filed 9-30-14; 8:45 am]

BILLING CODE 4163-18-P